DEPARTMENT OF TRANSPORTATION

Federal Aviation Administration

14 CFR Part 39

[Docket No. FAA-2006-25925; Directorate Identifier 2006-NM-167-AD]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Notice of proposed rulemaking (NPRM).

SUMMARY: The FAA proposes to supersede an existing airworthiness directive (AD) that applies to all EMBRAER Model EMB-135 airplanes and Model EMB-145, -145ER, -145MR, -145LR, -145XR, -145MP, and -145EP airplanes. The existing AD requires repetitive inspections of the pitot static heating relay K0057 and corrective actions if necessary. The existing AD also requires doing a terminating modification, which ends the repetitive inspections. This proposed AD would remove the existing repetitive inspections and instead would require a one-time detailed inspection for damage of the relay, relay socket, and silicone gasket; applicable corrective actions; and a new action to modify and re-identify the relay socket. This proposed AD would also revise the existing terminating modification—replacing/rerouting the windowsill drain hoses—into two parts, each with a different, reduced compliance time. This proposed AD results from a report of smoke in the cockpit. We are proposing this AD to prevent ignition of a windowsill drain hose by an overheated relay, which could cause fire and smoke in the cockpit.

DATES: We must receive comments on this proposed AD by October 30, 2006.

ADDRESSES: Use one of the following addresses to submit comments on this proposed AD.

• DOT Docket Web site: Go to http://dms.dot.gov and follow the instructions for sending your comments electronically.

• Governmentwide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Comments Invited

We invite you to submit any relevant written data, views, or arguments regarding this proposed AD. Send your comments to an address listed in the ADDRESSES section. Include the docket number “Docket No. FAA-2006-25925; Directorate Identifier 2006-NM-167-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On February 3, 2006, we issued AD 2006-04-02, amendment 39-14483 (71 FR 9434, February 24, 2006), for all EMBRAER Model EMB-135 airplanes and Model EMB-145, -145ER, -145MR, -145LR, -145XR, -145MP, and -145EP airplanes. That AD requires repetitive inspections of the pitot static heating relay K0057 for damage to the pin-type contacts, relay enclosure, and finishing material and corrective actions if necessary. That AD also requires doing a terminating modification, which ends the repetitive inspections. That AD resulted from a report of a burning drain hose and smoke caused by an overheated pitot static heating relay. We issued that AD to prevent over-heating of a certain pitot static heating relay, which could result in the burning of the windowsill drain hoses and consequent smoke or fire in the airplane cockpit.

Actions Since Existing AD Was Issued

Since we issued AD 2006-04-02, the Agnêcia Nacional de Aviação Civil (ANAC), which is the airworthiness authority for Brazil, has notified us that an operator reported smoke in the cockpit of an airplane that had been inspected in accordance with AD 2006-04-02. Investigation revealed that a windowsill drain hose resting against the XK0057 relay socket had ignited, creating fire and smoke. We therefore determined that AD 2006-04-02 was not adequate to correct the unsafe condition.

Relevant Service Information

EMBRAER has issued the following service bulletins for Model EMB-135ER, -135KE, -135KL, and -135LR airplanes and Model EMB-145, -145ER, -145MR, -145LR, -145XR, -145MP, and -145EP airplanes:

• Service Bulletin 145-30-0041, Revision 01, dated June 5, 2006; and

• Alert Service Bulletin 145-30-A050, dated May 31, 2006.

EMBRAER has issued the following service bulletins for Model EMB-135BJ airplanes:

• Service Bulletin 145LEG-30-0011, Revision 01, dated June 7, 2006; and

• Alert Service Bulletin 145LEG-30-A017, dated May 31, 2006.

Service Bulletin 145-30-0041, Revision 01, and Service Bulletin 145LEG-30-0011, Revision 01, include procedures that are divided into separate parts with different compliance times for replacing the left- and right-hand direct-vision windowsill drain hoses with new, improved drain hoses, including modifying and re-identifying one drain hose. For Model EMB-135BJ airplanes, the procedures for rerouting the drain hoses of the cockpit horizontal linings are unchanged. (EMBRAER Service Bulletins 145-30-0041, dated April 20, 2005, and 145LEG-30-0011, dated April 20, 2005, were cited as sources of service information for accomplishing the actions required by paragraph (i) of AD 2006-04-02.) No new actions have been included in the revised service bulletins.

The alert service bulletins supersede EMBRAER Service Bulletins 145LEG-30-0012 and 145-30-0042, both dated April 18, 2005, which were cited as sources of service information for accomplishing the repetitive inspections required by AD 2006-04-02.

The alert service bulletins describe procedures for performing a one-time inspection for discrepancies of the K0057 relay, XK0057 relay socket, and silicone gasket; modifying and re-identifying the relay socket; and doing corrective actions if necessary. The modification involves replacing two power contact pins in the relay socket with new, improved power contact pins. Discrepancies of the relay, relay socket, and silicone gasket include the following:

• Melted points or material stuck to the sides or the surface of the silicone gasket;

• Bellied surfaces, dents, and any crack in the paint of the relay enclosure;

• Discolored, loosened, or missing pin-type contacts of the relay or relay socket;

• Any crack, loose material, or damaged sealant around the bases of the contacts of the relay or relay socket;

• Any contamination of the pin-type contacts of the relay or relay socket; and

• Any stuck material or roughness on the surface where the pin-type contacts attach to the relay or relay socket.

The corrective actions include the following:

• Replacing any damaged K0057 relay with a new K0057 relay;

• Replacing any damaged silicone gasket with a new silicone gasket; and

• Replacing any damaged XK0057 relay socket with a modified and re-identified relay socket.

Accomplishing the actions specified in the service information is intended to adequately address the unsafe condition.

The ANAC mandated the service information and issued Brazilian airworthiness directive 2005-08-04R1, dated July 27, 2006, to ensure the continued airworthiness of these airplanes in Brazil. Brazilian airworthiness directive 2005-08-04R1 supersedes Brazilian airworthiness directive 2005-08-04, dated September 5, 2005, which is the parallel airworthiness directive for AD 2006-04-02.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have examined the ANAC's findings, evaluated all pertinent information, and determined that AD action is necessary for airplanes of this type design that are certificated for operation in the United States.

This proposed AD would supersede AD 2006-04-02 and, for Model EMB-135BJ airplanes, would restate the requirements of AD 2006-04-02 for rerouting the drain hoses of the cockpit horizontal linings. This proposed AD would also require accomplishing the actions specified in the service bulletins described previously, except as discussed under “Differences Between the Proposed AD and Service Bulletins.”

Differences Between the Proposed AD and Service Bulletins

EMBRAER Alert Service Bulletins 145-30-A050 and 145LEG-30-A017 specify contacting the manufacturer if discrepancies to components of the relay support are found. However, this proposed AD would not require that action.

Alert Service Bulletins 145-30-A050 and 145LEG-30-A017 refer only to an “inspection” of the K0057 relay, XK0057 relay socket, and silicone gasket. However, we have determined that the proper type of inspection is a “detailed inspection,” which corresponds to the Brazilian airworthiness directive. Note 1 of this proposed AD defines this type of inspection.

Change to Existing AD

This proposed AD would retain only the replacement of the drain hoses required by paragraph (i) of AD 2006-04-02, but with reduced compliance times. Paragraph (i) of AD 2006-04-02 corresponds to the actions specified in paragraphs (g) and (h) of this proposed AD, and those actions are required to be done in accordance with the latest revision of the applicable service bulletins. However, actions done before the effective date of this proposed AD in accordance with the original issues of the applicable service bulletins are acceptable for compliance with the corresponding requirements of paragraphs (g) and (h) of this proposed AD.

Costs of Compliance

The following table provides the estimated costs for U.S. operators to comply with this proposed AD at an average labor rate of $80 per work hour.

Estimated Costs
Action/item | Work hours | Parts | Cost per airplane | Number of U.S.-registered airplanes | Fleet cost
Detailed inspection | 1 | None | $80 | 651 | $52,080
Modify/reidentify relay socket | 1 | $10 ¹ | 90 | 651 | 58,590
Replace drain hoses ² | 2 | 268 | 428 | 651 | 278,628
¹ Operator-supplied parts.
² Includes rerouting of drain hoses of cockpit horizontal linings, if applicable.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14483 (71 FR 9434, February 24, 2006) and adding the following new airworthiness directive (AD):

Empresa Brasileira de Aeronautica S.A. (EMBRAER): Docket No. FAA-2006-25925; Directorate Identifier 2006-NM-167-AD.

Comments Due Date

(a) The FAA must receive comments on this AD action by October 30, 2006.

Affected ADs

(b) This AD supersedes AD 2006-04-02.

Applicability

(c) This AD applies to all EMBRAER Model EMB-135BJ, -135ER, -135KE, -135KL, and -135LR airplanes and Model EMB-145, -145ER, -145MR, -145LR, -145XR, -145MP, and -145EP airplanes, certificated in any category.

Unsafe Condition

(d) This AD results from a report of smoke in the cockpit. We are issuing this AD to prevent ignition of a windowsill drain hose by an overheated relay, which could cause fire and smoke in the cockpit.

Compliance

(e) You are responsible for having the actions required by this AD performed within the compliance times specified, unless the actions have already been done.

Inspection and Modification of Relay/Relay Socket, and Corrective Actions

(f) Within 600 flight hours or 180 days after the effective date of this AD, whichever occurs first: Do a one-time detailed inspection for discrepancies of the pitot static heating relay K0057, relay socket XK0057, and silicone gasket; modify and re-identify the XK0057 relay socket; and do all applicable corrective actions; in accordance with the Accomplishment Instructions of EMBRAER Alert Service Bulletin 145LEG-30-A017, dated May 31, 2006 (for Model EMB-135BJ airplanes); or EMBRAER Alert Service Bulletin 145-30-A050, dated May 31, 2006 (for Model EMB-135ER, -135KE, -135KL, and -135LR airplanes, and EMB-145, -145ER, -145MR, -145LR, -145XR, -145MP, and -145EP airplanes); as applicable; except where the service bulletins specify to contact the manufacturer if damage to components for the relay support is found, this AD does not require that action. All applicable corrective actions must be done before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Replacement and Modification of Right-Hand Windowsill Drain Hoses

(g) Within 600 flight hours or 180 days after the effective date of this AD, whichever occurs first, do the actions required by paragraph (g)(1), (g)(2), and (g)(3) of this AD, as applicable, in accordance with the Accomplishment Instructions of EMBRAER Service Bulletin 145LEG-30-0011, Revision 01, dated June 7, 2006 (for Model EMB-135BJ airplanes); or EMBRAER Service Bulletin 145-30-0041, Revision 01, dated June 5, 2006 (for Model EMB-135ER, -135KE, -135KL, and -135LR airplanes, and EMB-145, -145ER, -145MR, -145LR, -145XR, -145MP, and -145EP airplanes); as applicable.

(1) For all airplanes: Modify and re-identify the drain hose having part number (P/N) 123-15435-405, in accordance with Figure 1 of the applicable service bulletin.

(2) For all airplanes: Replace the right-hand windowsill drain hoses having P/N 123-15435-403 with new, improved hoses, P/N 145-13047-001 and 145-13044-005; and replace the tiedown straps with new tiedown straps, in accordance with Figure 1 of the applicable service bulletin.

(3) For Model EMB-135BJ airplanes: Reroute the drain hoses of the right cockpit horizontal linings, in accordance with Figure 2 of the applicable service bulletin.

Replacement of Left-Hand Windowsill Drain Hoses

(h) Within 1,200 flight hours or 360 days after the effective date of this AD, whichever occurs first, do the actions required by paragraph (h)(1) and (h)(2) of this AD, as applicable, in accordance with the Accomplishment Instructions of EMBRAER Service Bulletin 145LEG-30-0011, Revision 01, dated June 7, 2006 (for Model EMB-135BJ airplanes); or EMBRAER Service Bulletin 145-30-0041, Revision 01, dated June 5, 2006 (for Model EMB-135ER, -135KE, -135KL, and -135LR airplanes, and EMB-145, -145ER, -145MR, -145LR, -145XR, -145MP, and -145EP airplanes); as applicable.

(1) For all airplanes: Replace the left-hand windowsill drain hoses having P/N 123-15435-401 and -403 with new, improved hoses having P/N 145-13044-001 and P/N 145-13047-001, and replace the tiedown straps with new tiedown straps, in accordance with Figure 1 of the applicable service bulletin.

(2) For Model EMB-135BJ airplanes, reroute the drain hoses of the left cockpit horizontal linings, in accordance with Figure 2 of the applicable service bulletin.

Actions Accomplished According to Previous Issue of Service Bulletin

(i) Any replacement/rerouting of the drain hoses accomplished before the effective date of this AD in accordance with EMBRAER Service Bulletin 145-30-0041 or 145LEG-30-0011, both dated April 20, 2005, as applicable, is considered acceptable for compliance with the requirements of paragraphs (g) and (h) this AD.

Alternative Methods of Compliance (AMOCs)

(j)(1) The Manager, ANM-116, International Branch, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Brazilian airworthiness directive 2005-08-04R1, effective July 27, 2006, also addresses the subject of this AD.

Issued in Renton, Washington, on September 22, 2006.
Ali Bahrami,
Manager, Transport Airplane Directorate, Aircraft Certification Service.

[FR Doc. E6-15947 Filed 9-27-06; 8:45 am]

BILLING CODE 4910-13-P